DEPARTMENT OF HOMELAND SECURITY

Federal Emergency Management Agency

44 CFR Part 65

[Docket No. FEMA-D-7559]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, floodplains, reporting and recordkeeping requirements.

Accordingly, 44 CFR part 65 is amended to read as follows:

PART 65 —[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates and name of newspaper where notice was published | Chief Executive Officer of community | Effective date of modification | Community number
Alabama: Houston | City of Dothan | May 13, 2004, May 20, 2004, The Dothan Eagle | The Honorable Chester L. Sowell, III, Mayor of the City of Dothan, P.O. Box 2128, Dothan, Alabama 36302 | May 5, 2004 | 010104 E
Alabama: Jefferson | Unincorporated Areas | June 1, 2004, June 8, 2004, The Birmingham News | Mr. Larry Langford, President of the Jefferson County Commission, 716 Richard Arrington Jr. Boulevard North, Birmingham, Alabama 35203-0005 | September 7, 2004 | 010217 E
Connecticut: Fairfield | Town of Greenwich | May 4, 2004, May 11, 2004, Greenwich Time | Mr. Jim Lash, Town of Greenwich First Selectman, Town Hall, 101 Field Point Road, Greenwich, Connecticut 06830 | April 26, 2004 | 090008 C
Connecticut: Tolland | Town of Somers | June 4, 2004, June 11, 2004, Journal Inquirer | Mr. David A. Pinney, Town of Somers First Selectman, Somers Town Hall, 600 Main Street, Somers, Connecticut 06071 | May 27, 2004 | 090112 B
Delaware: New Castle | Unincorporated Areas | May 10, 2004, May 17, 2004, The News Journal | Mr. Thomas P. Gordon, New Castle County Executive, New Castle County Government Center, 87 Reads Way, New Castle, Delaware 19720 | August 16, 2004 | 105085 G
Florida: Duval | City of Jacksonville | April 19, 2004, April 26, 2004, The Florida Times-Union | The Honorable John Peyton, Mayor of the City of Jacksonville, City Hall at St. James, 4th Floor, 117 West Duval Street, Suite 400, Jacksonville, Florida 32202 | July 26, 2004 | 120077 E
Florida: Polk | Unincorporated Areas | April 20, 2004, April 27, 2004, The Ledger | Mr. Michael Herr, Polk County Manager, 330 West Church Street, P.O. Box 9005, Drawer CS-10, Bartow, Florida 33831-9005 | July 27, 2004 | 120261 F
Florida: Polk | Unincorporated Areas | June 14, 2004, June 21, 2004, The Ledger | Mr. Michael Herr, Polk County Manager, 330 West Church Street, P.O. Box 9005, Drawer CA01, Bartow, Florida 33831-9005 | June 7, 2004 | 120261 F
Georgia: Harris | Unincorporated Areas | June 3, 2004, June 10, 2004, Harris County Journal | Ms. Carol Silva, Harris County Manager, P.O. Box 365, Hamilton, Georgia 31811 | May 25, 2004 | 130338 A
Georgia: Chatham | City of Savannah | June 10, 2004, June 17, 2004, Savannah Morning News | The Honorable Otis S. Johnson, Ph.D., Mayor of the City of Savannah, P.O. Box 1027, Savannah, Georgia 31402 | June 3, 2004 | 135163 C
Illinois: DuPage | Village of Lisle | June 7, 2004, June 14, 2004, Daily Herald | The Honorable Joseph Broda, Mayor of the Village of Lisle, 925 Burlington Avenue, Lisle, Illinois 60532-1838 | September 13, 2004 | 170211 B
Kentucky | Lexington-Fayette Urban County Government | April 23, 2004, April 30, 2004, Lexington Herald-Leader | The Honorable Teresa Isaac, Mayor of the Lexington-Fayette Urban County Government, 200 East Main Street, 12th Floor, Lexington-Fayette Government Building, Lexington, Kentucky 40507 | July 30, 2004 | 210067 C
Maryland: Harford | Unincorporated Areas | June 18, 2004, June 25, 2004, The Aegis | Mr. James M. Harkins, Harford County Executive, 220 South Main Street, Bel Air, Maryland 21014 | September 24, 2004 | 240040 D
Massachusetts: Barnstable | Town of Falmouth | April 23, 2004, April 30, 2004, Cape Cod Times | Mr. Robert L. Whritenour, Jr., Falmouth Town Administrator, 59 Town Hall Square, Falmouth, Massachusetts 02540 | April 16, 2004 | 255211 G
New Jersey: Camden | Township of Winslow | March 31, 2004, April 7, 2004, The Jersey Journal | The Honorable Sue Ann Metzner, Mayor of the Township of Winslow, 125 South Route 73, Winslow, New Jersey 08037 | August 20, 2004 | 340148 B
North Carolina: Durham | Unincorporated Areas | May 28, 2004, June 4, 2004, The Herald-Sun | Mr. Michael M. Ruffin, Durham County Manager, 200 East Main Street, 2nd Floor, Durham, North Carolina 27701 | May 21, 2004 | 370085 G
North Carolina: Cumberland | City of Fayetteville | May 6, 2004, May 13, 2004, Fayetteville Observer | Mr. Roger Stancil, Fayetteville City Manager, P.O. Box 1846, Fayetteville, North Carolina 28301 | August 13, 2004 | 370077 B
Puerto Rico | Commonwealth | May 14, 2004, May 21, 2004, The San Juan Star | The Honorable Sila M. Calderon, Governor of the Commonwealth of Puerto Rico, Office of the Governor, P.O. Box 9020082, San Juan, Puerto Rico 00902-0082 | May 5, 2004 | 720000 C
South Carolina: Richland | Unincorporated Areas | April 20, 2004, April 27, 2004, The State | Mr. T. Cary McSwain, Richland County Administrator, 2020 Hampton Street, P.O. Box 192, Columbia, South Carolina 29202 | July 27, 2004 | 450170 H

(Catalog of Federal Domestic Assistance No. 83.100, “Flood Insurance.”)
Dated: August 10, 2004.
David I. Maurstad,
Acting Director, Mitigation Division, Emergency Preparedness and Response Directorate.

[FR Doc. 04-19010 Filed 8-18-04; 8:45 am]

BILLING CODE 9110-12-P